DEPARTMENT OF AGRICULTURE

Submission for OMB Review; Comment Request

May 18, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by June 21, 2017 will be considered. Written comments should be addressed to: Desk Officer for Agriculture, Office of Information and Regulatory Affairs, Office of Management and Budget (OMB), New Executive Office Building, 725-17th Street NW., Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Non-Timber Forest Products Generic for Surveys, Interviews, and Focus Groups.

OMB Control Number: 0596-New.

Summary of Collection: Many laws and policies specifically direct the USDA Forest Service (FS) to consider and manage for non-timber forest products for the benefit of the American public and to meet trust responsibilities to American Indians and Alaskan Natives on federal and tribal lands. Primary authorities to collect information include the Multiple-Use Sustained-Yield Act of 1960 that requires the FS to manage national forests “under principles of multiple use and to produce a sustained yield of products and services.” The Forest and Rangeland Renewable Resources Planning Act of 1974 requires the Secretary of Agriculture to “maintain a comprehensive inventory of renewable resources and evaluate opportunities to improve their yield of goods and services. The 2012 Planning Rule specifically requires “consideration of habitat conditions for wildlife, fish, and plants commonly enjoyed and used by the public for hunting, fishing, trapping, gathering, observing, and subsistence” on national forests.

Need and Use of the Information: Surveys, interviews, and focus groups administered under this generic collection will be designed to collect information from individuals and groups who forage for non-timber forest products and from natural resource professionals who manage land where non-timber forest products foraging takes place. Non-timber forest products harvested for use as food, medicine, and other purposes are plants, mushrooms, and plant- or tree-derived goods like nuts, boughs, sap, and leaves. The FS and other land management agencies will not have a scientific basis for managing non-timber forest product resources and the lands that support them without this information. Also, FS will not have the necessary information to provide technical advice on this issue to other land management agencies and individuals.

Description of Respondents: Individuals or households; Non-profit organizations and State, Local and Tribal government.

Number of Respondents: 14,250.

Frequency of Responses: Reporting: One time.

Total Burden Hours: 5,613.

Charlene Parker,
Departmental Information Collection Clearance Officer.

[FR Doc. 2017-10481 Filed 5-19-17; 8:45 am]

BILLING CODE 3411-15-P